DEPARTMENT OF TRANSPORTATION

Federal Aviation Administration

14 CFR Part 39

[Docket No. FAA-2016-9490; Directorate Identifier 2016-NE-26-AD]

RIN 2120-AA64

Airworthiness Directives; General Electric Company Turbofan Engines

AGENCY: Federal Aviation Administration (FAA), DOT.

ACTION: Notice of proposed rulemaking (NPRM).

SUMMARY: We propose to adopt a new airworthiness directive (AD) for certain General Electric Company (GE) CF6-80C2L1F turbofan engines. This proposed AD was prompted by a reduction in the life limit of the affected engines which is the result of a revised operating profile. This proposed AD would require replacement of the high-pressure turbine (HPT) spacer/impeller, part number (P/N) 1539M12P02, at a newer, lower life limit. We are proposing this AD to correct the unsafe condition on these products.

DATES: We must receive comments on this proposed AD by March 9, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2016-9490; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Herman Mak, Aerospace Engineer, Engine Certification Office, FAA, Engine & Propeller Directorate, 1200 District Avenue, Burlington, MA 01803; phone: 781-238-7147; fax: 781-238-7199; email: herman.mak@faa.gov.

SUPPLEMENTARY INFORMATION:

Comments Invited

We invite you to send any written relevant data, views, or arguments about this proposal. Send your comments to an address listed under the ADDRESSES section. Include “Docket No. FAA-2016-9490; Directorate Identifier 2016-NE-26-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The United States Air Force revised its operating profile for its GE CF6-80C2L1F engines. As a result of this change in operating profile, GE reduced its life limit for the HPT spacer/impeller from 20,000 to 18,000 cycles. Therefore, we are proposing to require removal of this affected HPT spacer/impeller at the new, lower life limit. This condition, if not corrected, could result in failure of the HPT spacer/impeller, uncontained release of the HPT spacer/impeller, damage to the engine, and damage to the airplane.

FAA's Determination

We are proposing this AD because we evaluated all the relevant information and determined the unsafe condition described previously is likely to exist or develop in other products of the same type design.

Proposed AD Requirements

This proposed AD would require replacement of the HPT spacer/impeller, P/N 1539M12P02, at a newer, lower life limit.

Costs of Compliance

We estimate that this proposed AD affects 0 engines installed on airplanes of U.S. registry.

We estimate the following costs to comply with this proposed AD:

Estimated Costs
Action | Labor cost | Parts cost | Cost per product | Cost on U.S. operators
Replacement of HPT spacer/impeller at reduced life | 0 work-hours × $85 per hour = $0 | $19,320 (pro-rated cost of part) | $19,320 | $0

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

General Electric Company: Docket No. FAA-2016-9490; Directorate Identifier 2016-NE-26-AD.

(a) Comments Due Date

We must receive comments by March 9, 2017.

(b) Affected ADs

None.

(c) Applicability

This AD applies to General Electric Company (GE) CF6-80C2L1F turbofan engines with a high-pressure turbine (HPT) spacer/impeller, part number (P/N) 1539M12P02, installed.

(d) Subject

Joint Aircraft System Component (JASC) Code 7250, Turbine/Turboprop Engine—Turbine Section.

(e) Unsafe Condition

This AD was prompted by a reduction in the life limit of the affected engines, which is the result of a revised operating profile. We are issuing this AD to prevent failure of the HPT spacer/impeller, uncontained release of the HPT spacer/impeller, damage to the engine, and damage to the airplane.

(f) Compliance

Comply with this AD within the compliance times specified, unless already done.

After the effective date of this AD, replace the HPT spacer/impeller, P/N 1539M12P02, before it exceeds 18,000 flight cycles since new.

(g) Installation Prohibition

After the effective date of this AD, do not install an HPT spacer/impeller, P/N 1539M12P02, onto any engine, or return to service any engine with an HPT spacer/impeller, P/N 1539M12P02, installed, if the HPT spacer/impeller exceeds 18,000 flight cycles since new.

(h) Alternative Methods of Compliance (AMOCs)

The Manager, Engine Certification Office, FAA, may approve AMOCs for this AD. Use the procedures found in 14 CFR 39.19 to make your request. You may email your request to: ANE-AD-AMOC@faa.gov.

(i) Related Information

For more information about this AD, contact Herman Mak, Aerospace Engineer, Engine Certification Office, FAA, Engine & Propeller Directorate, 1200 District Avenue, Burlington, MA 01803; phone: 781-238-7147; fax: 781-238-7199; email: herman.mak@faa.gov.

Issued in Burlington, Massachusetts, on January 12, 2017.
Colleen M. D'Alessandro,
Manager, Engine & Propeller Directorate, Aircraft Certification Service.

[FR Doc. 2017-01227 Filed 1-19-17; 8:45 am]

BILLING CODE 4910-13-P